DEPARTMENT OF TRANSPORTATION

Federal Aviation Administration

Notice of Intent To Request Renewal From the Office of Management and Budget of a Currently Approved Information Collection Activity, Request for Comments; Commercial Space Transportation Licensing Regulations

AGENCY: Federal Aviation Administration (FAA) DOT.

ACTION: Notice of request for comments.

SUMMARY: The required information will be used to determine if applicant proposals for conducting commercial space launches can be accomplished in a safe manner according to regulations and license orders issued by the Office of the Associate Administrator for Commercial Space Transportation. Respondents are applying for licenses to authorized licensed launch activities.

DATES: Please submit comments by March 20, 2006.

FOR FURTHER INFORMATION CONTACT: Judy Street on (202) 267-9895, or by e-mail at Judy.Street@faa.gov.

SUPPLEMENTARY INFORMATION: Federal Aviation Administration (FAA).

Title: Commercial Space Transportation Licensing Regulations.

Type of Request: Renewal of an approved collection.

OMB Control Number: 2120-0608.

Forms(s): FAA Form 8800-1.

Affected Public: A total of 3 respondents.

Frequency: The information is collected as needed.

Estimated Average Burden per Response: Approximately 378 hours per response.

Estimated Annual Burden Hours: An estimated 1,138 hours annually.

Abstract: The required information will be used to determine if applicant proposed for conducting commercial space launches can be accomplished in a safe manner according to regulations and license orders issued by the Office of the Associate Administrator for Commercial Space Transportation. Respondents are applying for licenses to authorize licensed launch activities.

ADDRESSES: Send comments to the FAA of the following address: Ms. Judy Street, Room 612, Federal Aviation Administration, Information Systems and Technology Services Staff, ABA-20, 800 Independence Ave., SW., Washington, DC 20591.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the uses of automated collection technique or other forms of information technology.

Issued in Washington, DC, on January 11, 2006.
Judith D. Street,
FAA Information Collection Clearance Officer, Information Systems and Technology Services Staff, ABA-20.

[FR Doc. 06-415 Filed 1-17-06; 8:45 am]

BILLING CODE 4910-13-M